DEPARTMENT OF COMMERCE

Foreign-Trade Zones Board

[Docket 51-2004]

Foreign-Trade Zone 167—Brown County, WI; Application for Expansion

An application has been submitted to the Foreign-Trade Zones Board (the Board) by the County of Brown, Wisconsin, grantee of FTZ 167, requesting authority to expand the zone in Brown County and Winnebago County, Wisconsin, within the Green Bay Customs port of entry. The application was submitted pursuant to the provisions of the Foreign-Trade Zones Act, as amended (19 U.S.C. 81a-81u), and the regulations of the Board (15 CFR part 400). It was formally filed on November 12, 2004.

FTZ 167 was approved on August 23, 1990 (Board Order 483, 55 FR 35916, 9/4/90). The zone project currently consists of the following site in Brown County: Site 1 (2,364 acres): Site 1A (60 acres)—located at South Point Road and Airport Road adjacent to Austin Straubel Airport in Ashwaubenon; Site 1B (1,654 acres)—Austin Straubel Airport located in Ashwaubenon and Hobart; and, Site 1C (650 acres)—Ashwaubenon Industrial Park located at Adam Drive and Ridge Road in Ashwaubenon and Hobart.

The applicant is now requesting authority to expand the general-purpose zone to include additional sites in Brown County and Winnebago County:

Expand Site 1 to include two additional parcels in the Village of Ashwaubenon, adjacent to the existing site:

• Proposed Site 1D (20 acres)—Seven Generations Corporation (Oneida Tribe Economic Development) facility located west of Packerland Drive, north of Partnership Drive, east of Commodity Lane and south of Glory Road (listed as Parcel A in the application); and,

• Proposed Site 1E (162 acres)—Oneida Industrial Park located at the intersection of East Adam Drive and Short Road (listed as Parcel B in the application).

Proposed Site 2 (1,617 acres, 3 parcels) in Winnebago County:

• Proposed Site 2A (289 acres)—Oshkosh Southwest Development Park located west of Oakwood Road, north of Route 91, west of Clairville Road and south of 20th Avenue in the City of Oshkosh and Town of Algoma (listed as Parcel C in the application);

• Proposed Site 2B (10 acres)—the SJ Spanbaurer (Fox Valley Technical College) facility bounded by West 20th Avenue to the north, Oregon Street to the east, West 23rd Avenue to the south and Minnesota Street to the west, adjacent to Site 2C (below), in the City of Oshkosh (listed as Parcel D in the application); and,

• Proposed Site 2C (1,318 acres)—Wittman Regional Airport located in the City of Oshkosh and the Townships of Algoma and Nekimi (listed as Parcel E in the application).

The property is owned by the Seven Generations Corporation, Oneida Tribe of Wisconsin, City of Oshkosh, Fox Valley Technical College, and the County of Winnebago. No specific manufacturing is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is January 18, 2005. Rebuttal comments in response to material submitted during the foregoing period may be submitted during the subsequent 15-day period (to February 2, 2005).

A copy of the application and accompanying exhibits will be available during this time for public inspection at the Office of the Foreign-Trade Zones Board's Executive Secretary at the first address listed above, and at the Brown County Library, 515 Pine Street, Green Bay, WI 54301.

Dated: November 12, 2004.
Dennis Puccinelli,
Executive Secretary.

[FR Doc. 04-25729 Filed 11-18-04; 8:45 am]

BILLING CODE 3510-DS-P